DEPARTMENT OF TRANSPORTATION

Federal Railroad Administration

Petition for Waiver of Compliance

In accordance with Part 211 of Title 49 of the Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

National Railroad Passenger Corporation

[Docket No. FRA-2000-7199]

The National Railroad Passenger Corporation (Amtrak) seeks a temporary waiver of compliance with section 203 of FRA's Passenger Equipment Safety Standards (49 CFR part 238). On October 18, 1999, Amtrak, pursuant to 49 CFR 238.203, filed a “grandfathering” petition with FRA (Docket No. FRA-1999-6404), in which it requested approval to continue using five trainsets manufactured by Talgo, Inc. in the Pacific Northwest that do not meet the buff strength standards specified in Part 238. Section 203 of that part provides that use of non-compliant equipment subject to a grandfathering petition must cease on May 8, 2000, unless FRA has approved the petition by that date.

Amtrak, in its petition for waiver, states that it believes there is a significant risk that FRA, will be unable to resolve administrative issues concerning information in the docket, obtain final comments from all interested parties, and then perform its own internal analysis and issue a final decision by May 8, 2000. Amtrak further states that “in order to ensure there is no short term [service] disruption, Amtrak feels that it is essential that FRA extend the period during which operation of Talgo equipment is permissible beyond the current May 8, 2000 date, until a date that is 30 days after the date on which FRA acts finally on Amtrak's grandfathering petition.”

Interested parties are invited to participate in this proceeding by submitting written views, data, or comments. FRA does not anticipate scheduling a public hearing in connection with this proceeding since the facts do not appear to warrant a hearing. If any interested party desires an opportunity for oral comment, they should notify FRA's Docket Clerk at Federal Railroad Administration, Office of Chief Counsel, 1120 Vermont Avenue, MS 10, Washington, DC, 20590, in writing, by April 20, 2000 and specify the basis for their request.

All other communications concerning this proceeding should identify the appropriate docket number (e.g. Docket No. FRA-2000-7199) and must be submitted to the Docket Clerk, DOT Docket Management Facility, Room PL-40-1 (Plaza Level), 400 7th Street, SW, Washington, DC 20590. Communications received by April 26, 2000 will be considered by FRA before final action is taken. Comments received after that date will be considered as far as practicable. All written communications concerning this proceeding are available for examination during regular business hours (9:00 am—5:00 pm) at the above facility. All documents in the public docket are also available for inspection and copying on the Internet at the docket facility's web site at http://dms.dot.gov.

Issued in Washington, DC on April 6, 2000.
Grady C. Cothen, Jr.,
Deputy Associate Administrator for Safety Standards and Program Development.

[FR Doc. 00-8935 Filed 4-6-00; 3:11 pm]

BILLING CODE 4910-06-P